FEDERAL COMMUNICATIONS COMMISSION

Open Commission Meeting, Thursday, August 1, 2019

July 25, 2019.

The Federal Communications Commission will hold an Open Meeting on the subjects listed below on Thursday, August 1, 2019 which is scheduled to commence at 10:30 a.m. in Room TW-C305, at 445 12th Street SW, Washington, DC.

Item No. | Bureau | Subject
1 | WIRELINE COMPETITION | TITLE: Establishing the Rural Digital Opportunity Fund.
|  | SUMMARY: The Commission will consider a Notice of Proposed Rulemaking that would propose to adopt a two-phase reverse auction framework for the Rural Digital Opportunity Fund, committing $20.4 billion in high-cost universal service support to bring high-speed broadband service to millions of unserved Americans. (WC Docket Nos. 19-126, 10-90).
2 | OFFICE OF ECONOMICS & ANALYTICS | TITLE: Digital Opportunity Data Collection.
|  | SUMMARY: The Commission will consider a Report and Order that would establish the Digital Opportunity Data Collection, a new data collection that will collect geospatial broadband coverage data from fixed providers, and that would make targeted changes to the existing Form 477 to reduce filing burdens. The Commission will also consider a Second Further Notice of Proposed Rulemaking that would seek comment on enhancing the new data collection, incorporating mobile voice and broadband, and improving satellite broadband reporting. (WC Docket Nos. 19-195, 11-10).
3 | WIRELINE COMPETITION | TITLE: Promoting Telehealth in Rural America.
|  | SUMMARY: The Commission will consider a Report and Order that would overhaul the Rural Health Care Program by streamlining and simplifying the way health care providers apply for and calculate universal service support amounts, promoting transparency and predictability in the program, and taking new steps to guard against waste, fraud, and abuse. (WC Docket No. 17-310).
4 | INTERNATIONAL | TITLE: Streamlining Licensing Procedures for Small Satellites.
|  | SUMMARY: The Commission will consider a Report and Order that would a new, optional streamlined application process designed for a class of satellites referred to as “small satellites.” (IB Docket No. 18-86).
5 | PUBLIC SAFTEY HOMELAND SECURITY | TITLE: Kari's Law/RAY BAUM'S Act Report and Order.
|  | SUMMARY: The Commission will consider a Report and Order that would address calls to 911 made from multi-line telephone systems, pursuant to Kari's Law, the conveyance of dispatchable location with 911 calls, as directed by RAY BAUM'S Act, and the consolidation of the Commission's 911 rules. (PS Docket Nos. 18-261, 17-239).
6 | OFFICE OF ECONOMICS & ANALYTICS | TITLE: 833 Toll-Free Number Auction.
|  | SUMMARY: The Commission will consider a Public Notice that would adopt the procedures for the auction of certain toll-free numbers in the 833 code. (AU Docket No. 19-101; WC Docket No. 17-192; CC Docket No. 95-155).
7 | MEDIA BUREAU | TITLE: Improving Low Power FM Radio Service.
|  | SUMMARY: The Commission will consider a Notice of Proposed Rulemaking that would modernize the LPFM technical rules to provide more regulatory flexibility for licensees. (MB Docket No. 19-193, 17-105).
8 | MEDIA BUREAU | TITLE: Implementation of Section 621.
|  | SUMMARY: The Commission will consider a Third Report and Order that would address issues raised by a remand from the U.S. Court of Appeals for the Sixth Circuit concerning how franchising authorities may regulate incumbent cable operators. (MB Docket No. 05-311).
9 | WIRELINE COMPETITION | TITLE: Anti-Spoofing Rules.
|  | SUMMARY: The Commission will consider a Second Report and Order that would amend its Truth in Caller ID rules to implement the anti-spoofing provisions of the RAY BAUM'S Act. (WC Docket Nos. 18-335 and 11-39).

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

Federal Communications Commission.
Marlene Dortch,
Secretary.

[FR Doc. 2019-16449 Filed 7-31-19; 8:45 am]

BILLING CODE 6712-01-P